DEPARTMENT OF COMMERCE

Foreign-Trade Zones Board

[B-52-2020]

Foreign-Trade Zone (FTZ) 38—Spartanburg County, South Carolina; Application for Production Authority; Teijin Carbon Fibers, Inc.; Extension of Rebuttal Comment Period

The FTZ Board (the Board) is currently reviewing an application for production authority within FTZ 38 on behalf of Teijin Carbon Fibers, Inc. (TCF) in Greenwood, South Carolina, submitted by the South Carolina State Ports Authority. On December 17, 2020, the Board published a notice inviting public comment on TCF's submission dated November 10, 2020 (see 85 FR 81875, December 17, 2020). In that notice, the Board allowed for submission of comments until January 19, 2021, and for submission of rebuttal comments until February 1, 2021. In response to a request from TCF, the Board is now extending the current period for submission of rebuttal comments until February 16, 2021. Submissions shall be addressed to the Board's Executive Secretary and sent to: ftz@trade.gov.

For further information, contact Diane Finver at Diane.Finver@trade.gov or (202) 482-1367.

Dated: January 27, 2021.
Andrew McGilvray,
Executive Secretary.

[FR Doc. 2021-02086 Filed 1-29-21; 8:45 am]

BILLING CODE 3510-DS-P